DEPARTMENT OF TRANSPORTATION

Federal Transit Administration

American Recovery and Reinvestment Act Public Transportation on Indian Reservations Program Project Selections and Tribal Transit Program Fiscal Year (FY) 2009 Project Selections

Correction

In notice document E9-30197 beginning on page 67302 in the issue of Friday, December 18, 2009, make the following corrections:

On page 67303, before the file line, three photo pages were meant to publish. They are printed in their entirety below:

[FR Doc. Z9-30197 Filed 12-30-09; 8:45 am]

BILLING CODE 1301-00-D